DEPARTMENT OF THE INTERIOR

Bureau of Land Management

[LLNVB01000 L51100000.GN0000.LVEMF09CF010; NVN-082096; NVN-084632; 12-08807; MO#: 4500027396; TAS: 14X5017]

Notice of Availability of the Draft Environmental Impact Statement for the Mount Hope Project, Eureka County, NV

AGENCY: Bureau of Land Management, Interior.

ACTION: Notice of availability.

SUMMARY: In accordance with the National Environmental Policy Act of 1969, as amended (NEPA), the Bureau of Land Management (BLM) has prepared a Draft Environmental Impact Statement (EIS) for the Mount Hope Project and by this notice is announcing the opening of the comment period.

DATES: To ensure comments will be considered, the BLM must receive written comments on the Mount Hope Project Draft EIS within 90 days following the date the Environmental Protection Agency publishes its Notice of Availability in the Federal Register. The BLM will announce future meetings or hearings and any other public involvement activities at least 15 days in advance through public notices, media releases, Web site postings, and/or mailings.

ADDRESSES: You may submit comments related to the Mount Hope Project by any of the following methods:

• Web site: http://www.blm.gov/nv/st/en/fo/battle_mountain_field.html.

• Email: mhmm_project@blm.gov.

• Fax: (775) 635-4034, Attention: Angelica Rose, Mt. Hope Project.

• Mail: BLM Battle Mountain District Office, 50 Bastian Road, Battle Mountain, NV 89820 Attn: Angelica Rose, Mt. Hope Project.

Copies of the Mount Hope Project Draft EIS are available at the Battle Mountain District Office at the above address, and on the Battle Mountain District's NEPA Web site at: http://www.blm.gov/nv/st/en/fo/battle_mountain_field/blm_information/national_environmental.html.

FOR FURTHER INFORMATION CONTACT: Angelica Rose, Planning and Environmental Coordinator, telephone: (775) 635-4000; address: 50 Bastian Road, Battle Mountain, NV 89820; email: mhmm_project@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: Eureka Moly, LLC, (EML) has submitted a Plan of Operations (NVN-082096) to the BLM for the proposed Mount Hope Molybdenum Mining Project (project). The proposed project would be located in central Nevada approximately 23 miles northwest of Eureka, Nevada. The proposed project includes a power transmission line, a water well field, and associated mine-processing facilities. The project would be located on both public and private lands in Eureka County, Nevada. The surface disturbance associated with the proposed activities totals 8,318 acres, of which 8,056 acres are on public land and 262 acres are on private land. This proposed project would consist of the following primary components: an open pit with associated pit dewatering; two waste rock disposal facilities; milling facilities; a molybdenite concentrate roaster and packaging plant; a ferromolybdenum plant for production of ferromolybdenum alloy using a metallothermic process and a separate packaging plant for drums and bags; two tailings storage facilities; an ongoing exploration program; low-grade ore stockpile; water supply in the Kobeh Valley Well Field Area; a 24-mile long, 230-kilovolt electric power supply line from the existing Machacek substation, with a substation and distribution system. Ancillary facilities would include: haul, secondary, and exploration roads; a ready line; warehouse and maintenance facilities; storm water diversions; sediment control basins; pipeline corridors; reagent and diesel storage; storage and laydown yards; ammonium nitrate silos; explosives magazines; fresh and fire water storage and a process water storage pond; monitoring wells; an administration building; a security and first aid building; a helipad; a laboratory; growth media and cover stockpiles; borrow areas; mine power loop; communications equipment; hazardous waste management facilities; a Class III waivered landfill; an area to store and treat petroleum contaminated soils; and turn lanes on State Route 278.

The estimated 80-year project would have an 18-month construction phase and mine life of 32 years, which is concurrent with an ore processing timeline of 44 years, followed by 30 years of reclamation and 5 years of post-reclamation monitoring. Concurrent reclamation would not commence until after the first 15 years of the project. The Mount Hope ore body contains approximately 966 million tons of molybdenite (molybdenum disulfide) ore that would produce approximately 1.1 billion pounds of recoverable molybdenum during the ore-processing time frame. Approximately 1.7 billion tons of waste rock would be produced by the end of the 32-year mine life and approximately 1 billion tons of tailings would be produced by the end of the 44 years of ore processing. Optimal development of the molybdenum deposit, to meet the market conditions and maximize molybdenum production, would utilize an open-pit mining method and would process the mined ore using a flotation and roasting process.

The Draft EIS describes and analyzes the proposed project's site-specific impacts, including cumulative impacts, on all affected resources. Four action alternatives, including the Proposed Action as described above, were analyzed in addition to the No Action Alternative. Eight alternatives were considered but eliminated from further analysis. Based on the analysis in the Draft EIS, the BLM has determined that the Preferred Alternative is the approval of the Proposed Action, with accompanying mitigation measures.

On March 2, 2007, a Notice of Intent was published in the Federal Register (E7-3643) inviting scoping comments on the proposed project and a news release was published in three northern Nevada newspapers. Two public scoping meetings for the project were held: March 27, 2007 in Eureka, Nevada, attended by five members of the public with no written comments submitted; and March 28, 2007 in Battle Mountain, Nevada, attended by 30 members of public with one written comment submitted. Five additional comment letters were received during the scoping period and three letters were received after the end of the scoping period. All comments received have been incorporated in a Scoping Summary Report and have been considered in preparation of the Draft EIS.

Concerns raised during scoping include the length of time for mining operations and reclamation, and access to private lands. Potential impacts were identified to the Pony Express National Historic Trail, wildlife, migratory birds, special status species, threatened and endangered species (including sage-grouse and Lahontan cutthroat trout), wild horses, hydrology resources (related to water quality and quantity), water rights holders, wetlands, air quality, livestock grazing (relating to forage and water availability and reductions in AUMs), socioeconomic impacts on the community, visual resources; Native American traditional values, impacts to cultural resources, waste management, and reclamation. Financial concerns were raised relating to accountability of operators, bonding requirements, and the establishment of a long-term trust fund. These concerns were addressed in the Draft EIS to the extent practicable.

Please note that public comments and information submitted, including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Christopher J. Cook,
Mount Lewis Field Manager.

[FR Doc. 2011-30926 Filed 12-1-11; 8:45 am]

BILLING CODE 4310-HC-P